NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold twenty-seven meetings, by videoconference, of the Humanities Panel, a federal advisory committee, during August 2021. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. app.), notice is hereby given of the following meetings:

1. Date: August 2, 2021

This video meeting will discuss applications on the topics of Art and American Studies, for the Fellowships grant program, submitted to the Division of Research Programs.

2. Date: August 2, 2021

This video meeting will discuss applications on the topics of Comparative Literature, Literacy Theory, Middle Eastern Studies, and Migration Studies, for the Fellowships grant program, submitted to the Division of Research Programs.

3. Date: August 2, 2021

This video meeting will discuss applications for the Humanities Initiatives at Colleges and Universities grant program, submitted to the Division of Education Programs.

4. Date: August 3, 2021

This video meeting will discuss applications for the Humanities Initiatives at Colleges and Universities grant program, submitted to the Division of Education Programs.

5. Date: August 3, 2021

This video meeting will discuss applications on the topics of Ancient to Renaissance Literature and Studies, for the Fellowships grant program, submitted to the Division of Research Programs.

6. Date: August 3, 2021

This video meeting will discuss applications on the topics of U.S. History, Political Science, and Jurisprudence, for the Fellowships grant program, submitted to the Division of Research Programs.

7. Date: August 4, 2021

This video meeting will discuss applications on the topics of Religious Studies and American Studies, for the Fellowships grant program, submitted to the Division of Research Programs.

8. Date: August 4, 2021

This video meeting will discuss applications on the topics of Film, Media, Communication, and Rhetoric, for the Fellowships grant program, submitted to the Division of Research Programs.

9. Date: August 4, 2021

This video meeting will discuss applications for the Humanities Initiatives at Colleges and Universities grant program, submitted to the Division of Education Programs.

10. Date: August 5, 2021

This video meeting—the first of two on this date—will discuss applications for the Humanities Initiatives at Colleges and Universities grant program, submitted to the Division of Education Programs.

11. Date: August 5, 2021

This video meeting—the second of two on this date—will discuss applications for the Humanities Initiatives at Colleges and Universities grant program, submitted to the Division of Education Programs.

12. Date: August 5, 2021

This video meeting will discuss applications on the topics of Philosophy and Ethics, for the Fellowships grant program, submitted to the Division of Research Programs.

13. Date: August 5, 2021

This video meeting will discuss applications on the topics of U.S. History and Environmental and Science Studies, for the Fellowships grant program, submitted to the Division of Research Programs.

14. Date: August 6, 2021

This video meeting will discuss applications on the topics of Music, Dance, and Theater, for the Fellowships grant program, submitted to the Division of Research Programs.

15. Date: August 6, 2021

This video meeting will discuss applications on the topics of American Literature and Studies, for the Fellowships grant program, submitted to the Division of Research Programs.

16. Date: August 6, 2021

This video meeting will discuss applications for the Humanities Initiatives at Colleges and Universities grant program, submitted to the Division of Education Programs.

17. Date: August 9, 2021

This video meeting—the first of two on this date—will discuss applications for the Humanities Initiatives at Hispanic-Serving Institutions grant program, submitted to the Division of Education Programs.

18. Date: August 9, 2021

This video meeting—the second of two on this date—will discuss applications for the Humanities Initiatives at Hispanic-Serving Institutions grant program, submitted to the Division of Education Programs.

19. Date: August 10, 2021

This video meeting—the first of two on this date—will discuss applications for the Humanities Initiatives at Hispanic-Serving Institutions grant program, submitted to the Division of Education Programs.

20. Date: August 10, 2021

This video meeting—the second of two on this date—will discuss applications for the Humanities Initiatives at Hispanic-Serving Institutions grant program, submitted to the Division of Education Programs.

21. Date: August 11, 2021

This video meeting will discuss applications for the Humanities Initiatives at Hispanic-Serving Institutions grant program, submitted to the Division of Education Programs.

22. Date: August 12, 2021

This video meeting will discuss applications for the Humanities Initiatives at Community Colleges grant program, submitted to the Division of Education Programs.

23. Date: August 13, 2021

This video meeting will discuss applications for the Humanities Initiatives at Community Colleges grant program, submitted to the Division of Education Programs.

24. Date: August 16, 2021

This video meeting will discuss applications on the topic of Humanities Initiatives at Historically Black Colleges and Universities grant program, submitted to the Division of Education Programs.

25. Date: August 25, 2021

This video meeting will discuss applications on the topic of Conservation Science, for the Research and Development grant program, submitted to the Division of Preservation and Access.

26. Date: August 26, 2021

This video meeting will discuss applications on the topic of Digital Preservation, for the Research and Development grant program, submitted to the Division of Preservation and Access.

27. Date: August 30, 2021

This video meeting will discuss applications on the topics of Race and Gender Studies, for the Digital Projects for the Public: Discovery Grants program, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: August 5, 2021
Elizabeth Voyatzis,
Committee Management Officer.

[FR Doc. 2021-17047 Filed 8-9-21; 8:45 am]

BILLING CODE 7536-01-P